DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessel placed on the SDN List has been identified as property in which a blocked person has an interest. OFAC is also updating one or more other SDN Update entries.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On October 18, 2023, OFAC determined that the property and interests in property subject to U.S. jurisdiction of the following persons are blocked under the relevant sanctions authorities listed below.

BILLING CODE 4810-AL-P

On October 18, 2023, OFAC also identified the following vessel as property in which a blocked person has an interest under the relevant sanctions authority listed below.

Vessel

1. PARNIA General Cargo Iran flag; Additional Sanctions Information—Subject to Secondary Sanctions; Vessel Year of Build 1999; Vessel Registration Identification IMO 9167265 (vessel) [IRAN] [NPWMD] [IFSR] [IRAN-CON-ARMS-E.O.] (Linked To: ISLAMIC REPUBLIC OF IRAN SHIPPING LINES; Linked To: MINISTRY OF DEFENSE AND ARMED FORCES LOGISTICS).

Identified pursuant to E.O. 13949 as property in which MINISTRY OF DEFENSE AND ARMED FORCES LOGISTICS, a person whose property and interests in property are blocked pursuant to E.O. 13949, has an interest.

On October 18, 2023, OFAC published the following revised information for the entries on the SDN List for the following persons blocked under the relevant sanctions authorities listed below.

Dated: October 18, 2023.
Bradley T. Smith,
Director, Office of Foreign Assets Control, U.S. Department of the Treasury.

[FR Doc. 2023-23403 Filed 10-23-23; 8:45 am]

BILLING CODE 4810-AL-C